DEPARTMENT OF JUSTICE

Antitrust Division

Notice Pursuant to the National Cooperative Research and Production Act of 1993—Institute of Environmental Sciences and Technology

Notice is hereby given that, on April 24, 2014, pursuant to Section 6(a) of the National Cooperative Research and Production Act of 1993, 15 U.S.C. 4301 et seq. (“the Act”), Institute of Environmental Sciences and Technology (“IEST”) has filed written notifications simultaneously with the Attorney General and the Federal Trade Commission disclosing additions or changes to its standards development activities. The notifications were filed for the purpose of extending the Act's provisions limiting the recovery of antitrust plaintiffs to actual damages under specified circumstances. Specifically, IEST's principal place of business has changed to Arlington Heights, IL. Also, the nature and scope of IEST's standards development activities have changed to: Contamination Control (CC); Design, Test, and Evaluation (DT&E); and Product Reliability (PR). The areas of interest are as follows: CC—Air cleanliness, air filtration, cleanroom and clean zone design and testing, cleanroom operation, consumables used in cleanrooms, nanotechnology facilities and operations, and pertinent equipment and tools; DT&E—Mechanical shock and vibration equipment and applications, test methods and analysis techniques for various categories of military and consumer equipment, dynamic data acquisition and analysis; and PR—Environmental stress screening for manufacturing processes, reliability testing.

On September 21, 2004, IEST filed its original notification pursuant to Section 6(a) of the Act. The Department of Justice published a notice in the Federal Register pursuant to Section 6(b) of the Act on December 3, 2004 (69 FR 70282).

Patricia A. Brink,
Director of Civil Enforcement, Antitrust Division.

[FR Doc. 2014-12528 Filed 5-29-14; 8:45 am]

BILLING CODE 4410-11-P